DEPARTMENT OF JUSTICE

Office of Justice Programs

[OJP (NIJ) Docket No. 1676]

Request for Expressions of Interest From Manufacturers and Developers in Forthcoming Gun Safety Technology Challenge and Request for Information

AGENCY: National Institute of Justice, DOJ.

ACTION: Notice.

SUMMARY: The National Institute of Justice (NIJ) is requesting manufacturers and developers of firearms that incorporate advanced safety technologies or firearms accessories utilizing advanced safety technologies that are intended to modify firearms to submit an expression of interest in the forthcoming Gun Safety Technology Challenge (“Challenge”) and provide information about their products or technology. Through the Challenge, NIJ will seek an objective demonstration through testing and evaluation of the reliability of firearms and firearms accessories available today that are typically known by various terms such as smart guns, user-authorized handguns, childproof guns, and personalized firearms. These firearms or firearms accessories can be understood to utilize integrated components that exclusively permit an authorized user or set of users to operate or fire the gun and automatically deactivate it under a set of specific circumstances, reducing the chances of accidental or purposeful use by an unauthorized user. NIJ is interested in receiving information regarding which firearms and firearms accessories that incorporate advanced safety technologies that would be made available by industry for testing and evaluation in the Challenge. This information will help inform NIJ regarding the scope of the notional test methods and test procedures for firearms and firearms accessories required for the Challenge, as described below.

DATES: Manufacturers or developers wishing to submit an expression of interest and information to the National Institute of Justice must do so by 5 p.m. Eastern Time January 5, 2015, as instructed below.

ADDRESSES: How to Respond and What to Include: To submit an expression of interest and information, please send an email to gunsafetytechnology@usdoj.gov. Please provide the business contact information, including a point of contact name, company name (if applicable), mailing address, phone number, and email address. The minimum information requested about the firearm or firearm accessory responsive to the Challenge described in this notice is as follows: (1) A written description; (2) a photograph (or diagram); (3) the type of cartridge that would be used in the firearm; and (4) an estimate of the technological maturity. The information found in the report A Review of Gun Safety Technologies is suggested as a guide to assess the maturity of technologies. The report can be found here: https://www.ncjrs.gov/pdffiles1/nij/242500.pdf. There is no limit to the amount of information that interested parties may submit. No materials will be returned. All materials submitted will be treated confidentially and discreetly and may be shared with U.S. Government staff or U.S. Government contractors for evaluation purposes. This notice is not a solicitation for funding and does not obligate the Government to fund any research and development.

SUPPLEMENTARY INFORMATION: The National Institute of Justice (NIJ) was tasked with supporting the President's Plan to Reduce Gun Violence, specifically:

“The President is directing the Attorney General to work with technology experts to review existing and emerging gun safety technologies, and to issue a report on the availability and use of those technologies. In addition, the Administration will issue a challenge to the private sector to develop innovative and cost-effective gun safety technology and provide prizes for those technologies that are proven to be reliable and effective.”

In support of this Executive action, NIJ has conducted a technology assessment and market survey of existing and emerging gun safety technologies that would be of interest to the law enforcement and criminal justice communities and others with an interest in gun safety and advanced firearm technology. A report published in June 2013 by NIJ entitled A Review of Gun Safety Technologies examined existing and emerging gun safety technologies, and their availability and use, to provide a comprehensive perspective on firearms with integrated advanced safety technologies.

Following the report, NIJ now seeks an objective demonstration of the reliability of firearms available today with advanced gun safety technology integrated into the firearm through a forthcoming Gun Safety Technology Challenge (“Challenge”). The reliability of firearms with integrated advanced safety technologies has been cited as a concern regarding the potential performance and user acceptance of products that may incorporate such technologies, as discussed in the report. It is anticipated that the results of the Challenge will provide a basis to improve the general understanding of whether the addition of a smart gun technology does or does not significantly reduce the reliability of the firearm system compared to existing firearms. It is believed that this Challenge will be the first effort to apply a methodology to provide a rigorous and scientific assessment of the technical performance characteristics of these types of firearms.

Manufacturers and developers of “smart guns” are encouraged to respond to this notice to help determine the number of firearm products that are at a commercial or pre-commercial level of maturity that could reasonably be considered safe to carry out testing with live ammunition. Qualified interested parties will be able to submit at a later time their products for testing and evaluation by a third-party testing entity capable of assessing the performance characteristics of firearms through the Challenge. NIJ has partnered with the U.S. Army Aberdeen Test Center (ATC) to perform firearm testing and evaluation. While response to this notice is not a prerequisite for participation in the forthcoming Challenge, the information provided here would permit NIJ and ATC to better assess whether the products or technologies are viable from a testing perspective. The types of firearms that can reasonably be expected to be within the scope of the Challenge include pistols, revolvers, rifles, and shotguns, or accessories that can modify those types of firearms.

The proposed testing and evaluation in the forthcoming Challenge will notionally proceed in an escalated manner in three stages. Stage 1 will be an information review. Participants will deliver a white paper describing their product or technology and will be encouraged to provide any available test data to substantiate claims regarding performance or reliability. Stage 2 will involve single product testing. Participants will deliver two firearms or firearm accessories with integrated gun safety technology for initial testing to confirm that the product performs at a minimum performance level. Testing would be limited to a thorough inspection and tests tending toward more light duty real-world use. Participants will need to provide a safety assessment report to ensure that their products are safe for testing personnel to handle and operate. Stage 3 will involve expanded product testing. Participants will deliver additional units for testing to boost the sample size. This stage will be reserved for mature products that are demonstrated to perform at a minimum performance level determined by Stage 2 testing with Stage 3 tests tending toward more heavy duty real-world use. More rounds of ammunition will be used per unit tested with additional environmental tests to characterize functionality and durability under different conditions.

The test procedures used in the Challenge will be selected or designed to better understand the impact of smart gun technology on the reliability of the firearm, which may include different authentication technologies like radio frequency identification and fingerprint sensors. Test procedures shall be applicable to any firearm or firearm accessory eligible for entry into the Challenge, which will be informed in part by the response to this notice. Failure definitions and scoring criteria that can be used to draw conclusions regarding the performance of the participating firearms or firearms accessories will be developed according to established guidelines already in use for reliability applications in U.S. Army and Joint Service systems. It is also anticipated that manufacturers or developers of “smart guns” will be invited at a later time to participate in a voluntary informational workshop as a part of the Challenge. Response to this notice is not a prerequisite for participation in the forthcoming Challenge.

William Sabol,
Acting Director, National Institute of Justice.

[FR Doc. 2014-27368 Filed 11-18-14; 8:45 am]

BILLING CODE 4410-18-P